NATIONAL SCIENCE FOUNDATION

Interagency Arctic Research Policy Committee; Notice of Meeting

In accordance with the Arctic Research and Policy Act, 15 U.S.C. 4107, the National Science Foundation announces the following meeting:

Name: Interagency Arctic Research Policy Committee.

Date: May 12, 2008, 11 a.m. to 12 noon.

Type of Meeting: Open.

Place: National Science Foundation, 4201 Wilson Boulevard, Room 1235, Arlington, VA 22230. The public may obtain further information about the meeting by contacting the NSF official below.

Contact Person: Fae Korsmo, Executive Director, Interagency Arctic Research Policy Committee, National Science Foundation, 4201 Wilson Boulevard, Arlington, VA 22230, via telephone at: (703) 292-8002 or e-mail to fkorsmo@nsf.gov.

Purpose of Meeting: Annual Meeting.

Dated: April 22, 2008.
Suzanne H. Plimpton,
Reports Clearance Officer, National Science Foundation.

[FR Doc. E8-9128 Filed 4-25-08; 8:45 am]

BILLING CODE 7555-01-P